DEPARTMENT OF HEALTH AND HUMAN SERVICES

Food and Drug Administration

[Docket No. 2000D-1350]

Draft Guidance for Industry on Labeling for Combined Oral Contraceptives; Availability

AGENCY: Food and Drug Administration, HHS.

ACTION: Notice.

SUMMARY: The Food and Drug Administration (FDA) is announcing the availability of a draft guidance for industry entitled “Labeling for Combined Oral Contraceptives.” The draft guidance contains recommended labeling for combined oral contraceptives. This is the second draft of a guidance being issued on this topic.

DATES: Submit written or electronic comments on the draft guidance by May 4, 2004. General comments on agency guidance documents are welcome at any time.

ADDRESSES: Submit written requests for single copies of the draft guidance to the Division of Drug Information (HFD-240), Center for Drug Evaluation and Research, Food and Drug Administration, 5600 Fishers Lane, Rockville, MD 20857. Send one self-addressed adhesive label to assist that office in processing your requests. Submit written comments on the draft guidance to the Division of Dockets Management (HFA-305), Food and Drug Administration, 5630 Fishers Lane, rm. 1061, Rockville, MD 20852. Submit electronic comments to http://www.fda.gov/dockets/ecomments. See the SUPPLEMENTARY INFORMATION section for electronic access to the draft guidance document.

FOR FURTHER INFORMATION CONTACT: Margaret Kober, Center for Drug Evaluation and Research (HFD-580), Food and Drug Administration, 5600 Fishers Lane, Rockville, MD 20857, 301-827-4260.

SUPPLEMENTARY INFORMATION:

I. Background

FDA is announcing the availability of a draft guidance for industry entitled “Labeling for Combined Oral Contraceptives.” The draft guidance describes the recommended labeling for health care providers and patient instructions for use for new drug applications (NDAs) and abbreviated new drug applications (ANDAs) for combined oral contraceptives (those that contain estrogen and progestin). This draft guidance incorporates changes in response to public comments on the previous draft guidance that was published in the Federal Register on July 10, 2000 (65 FR 42387). Because of the many changes resulting from comments on the 2000 draft, this guidance is being issued in draft again to allow for additional public input. Once comments on this second draft have been received and considered, the agency will finalize the guidance.

This draft guidance is being issued consistent with FDA's good guidance practices regulation (21 CFR 10.115). The draft guidance, when finalized, will represent the agency's current thinking on labeling for combined oral contraceptives. It does not create or confer any rights for or on any person and does not operate to bind FDA or the public. An alternative approach may be used if such approach satisfies the requirements of the applicable statutes and regulations.

II. Comments

Interested persons may submit to the Division of Dockets Management (see ADDRESSES) written or electronic comments on the draft guidance. Two copies of mailed comments are to be submitted, except that individuals may submit one copy. Comments are to be identified with the docket number found in brackets in the heading of this document. The draft guidance and received comments are available for public examination in the Division of Dockets Management between 9 a.m. and 4 p.m., Monday through Friday.

III. Electronic Access

Persons with access to the Internet may obtain the document at either http://www.fda.gov/cder/guidance/index.htm or http://www.fda.gov/ohrms/dockets/default.htm.

Dated: February 25, 2004.
Jeffrey Shuren,
Assistant Commissioner for Policy.

[FR Doc. 04-4886 Filed 3-4-04; 8:45 am]

BILLING CODE 4160-01-S